FEDERAL COMMUNICATIONS COMMISSION

47 CFR Part 73

[DA 08-1956; MB Docket No. 03-44; RM-10650, RM-11396]

Radio Broadcasting Services; Noyack and Water Mill, NY

AGENCY: Federal Communications Commission.

ACTION: Final rule; petitions for reconsideration.

SUMMARY: The staff dismisses as moot a petition for reconsideration filed by Monroe Board of Education (“Monroe”) and grants in part and denies in part a petition for reconsideration filed by Sacred Heart University (“SHU”). The document also deletes the allotment of FM Channel 233A at Water Mill, New York, and dismisses a counterproposal filed by SHU. See also Supplemental Information.

DATES: Effective October 6, 2008.

FOR FURTHER INFORMATION CONTACT: Andrew J. Rhodes, Media Bureau, (202) 418-2180.

SUPPLEMENTARY INFORMATION: This is a synopsis of the Commission's Memorandum Opinion and Order, MB Docket No. 03-44, adopted August 20, 2008, and released August 22, 2008. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. The Commission will send a copy of the Memorandum Opinion and Order in this proceeding in a report to be sent to Congress and the Government Accountability Office pursuant to the Congressional Review Act, see 5 U.S.C. 801(a)(1)(A).

At the request of Isabel Sepulveda, Inc., the Notice of Proposed Rule Making in this proceeding proposed the allotment of Channel 277A at Water Mill, New York. See 68 FR 10682 (March 6, 2003). In response, SHU filed comments, suggesting the allotment of Channel 233A in lieu of Channel 277A at Water Mill in order to avoid displacement of its translator W277AB, Noyack, New York. Alternatively, in the event the Commission rejects the allotment of Channel 233A at Water Mill, SHU requested consideration of its counterproposal to reserve Channel *277A, reserved for noncommercial educational (“NCE”) use, at Noyack and modify the license for its Station WSUF(FM), Noyack, from Channel 210B1 to Channel *277A.

The Report and Order allotted Channel 233A at Water Mill. See 71 FR 9266 (February 23, 2006). Subsequently, the allotment of Channel 233A at Water Mill, New York, was inadvertently removed from the Table of Allotments. See Revision of Procedures Governing Amendments to FM Table of Allotments and Changes of Community of License in the Radio Broadcast Services, 71 FR 76208 (December 20, 2006).

On reconsideration, the staff deletes the allotment of Channel 233A at Water Mill because the original rulemaking petition, as well as its supporting comments, did not comply with Section 1.52 of the Commission's Rules, which requires that all pleadings filed by parties not represented by legal counsel be signed and verified by the petitioner. As a result, the removal of Channel 233A at Water Mill becomes official, and Monroe's petition for reconsideration is dismissed as moot.

The document also dismisses SHU's counterproposal because it violates our policy of no longer entertaining optional or alternative proposals presented in either an initial rulemaking petition or a counterproposal. Further, even if the staff were to consider the merits of SHU's counterproposal, the document concludes that the modification of a reserved band NCE license to a nonadjacent channel in the nonreserved band has been permitted in only limited circumstances and that this case does not present such rare circumstances that would justify the modification.

The document also announces that, effective with the release of this order, requests to downgrade and modify a reserved band FM station to a nonadjacent, nonreserved band channel will require the solicitation of competing expressions of interest, pursuant to Section 1.420(g) of the Commission's Rules. The document also overrules a policy set forth in Key West, Florida, and holds that the downgrade and modification of a nonreserved band FM station to a nonadjacent channel in the nonreserved FM band is subject to the requirements of Section 1.420(g) regarding the solicitation of competing expressions of interest and the availability of an equivalent class channel to accommodate such expressions of interest. See Key West Florida, 50 FR 26,229 (June 25, 1985).

List of Subjects in 47 CFR Part 73

Radio, Radio broadcasting.

Federal Communications Commission.
John A. Karousos,
Assistant Chief, Audio Division Media Bureau.

[FR Doc. E8-20895 Filed 9-8-08; 8:45 am]

BILLING CODE 6712-01-P